DEPARTMENT OF THE INTERIOR

Geological Survey

[GR17ND00GCT2800; OMB Control Number 1028—New]

Agency Information Collection Activities; Phragmites Adaptive Management Framework

AGENCY: U.S. Geological Survey (USGS), Interior.

ACTION: Notice.

SUMMARY: In accordance with the Paperwork Reduction Act of 1995, the USGS is proposing a new information collection (IC).

DATES: Interested persons are invited to submit comments on or before January 29, 2018.

ADDRESSES: You may submit comments on this information collection to the Information Collection Clearance Officer, U.S. Geological Survey, 12201 Sunrise Valley Drive MS 159, Reston, VA 20192 (mail); or gs-info_collections@usgs.gov (email). Please reference `Information Collection 1028—NEW, Phragmites Adaptive Management Framework' in all correspondence.

FOR FURTHER INFORMATION CONTACT: Clint Moore, USGS Research Wildlife Biologist, at (706) 542-1166 or cmoore@usgs.gov.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed IC that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this IC. Before including your address, phone number, email address, or other personal identifying information in your comment, you should be aware that your entire comment—including your personal identifying information—may be made publicly available at any time. While you may ask us in your comment to withhold your personal identifying information from public review, we cannot guarantee that we will be able to do so.

Abstract: The Phragmites Adaptive Management Framework (PAMF) is a collaborative effort to confront and reduce the spread of invasive Phragmites grass in the Great Lakes watershed. Phragmites is associated with reduced water quality, loss of biodiversity, reduced recreational opportunities, and increased fire hazards. Reducing or eliminating Phragmites throughout the region will reverse these deleterious effects and help achieve the comprehensive restoration goals for the Great Lakes basin (see the Great Lakes Restoration Initiative at https://www.glri.us/). The PAMF initiative uses the principles of adaptive management, a learning-based form of management in which data gathered following a treatment action are used to improve the predictive models that inform the decision-making process itself. Identified as a priority by the multi-national Great Lakes Phragmites Collaborative (http://www.greatlakesphragmites.net/), PAMF is a network of public and private cooperators who share a common desire to reduce or eradicate invasive Phragmites on lands that they manage. Membership in PAMF is voluntary and occurs after the cooperator has decided to treat Phragmites. A process is being developed to deliver site-specific guidance to participants that will both help them understand what treatment approach is most likely to achieve their management objectives and support regional adaptive learning through improvements and feedbacks to underlying scientific models. Cooperators will monitor and report vegetation characteristics on lands enrolled in the program, and they will report attributes about treatments applied. The data will be used in analytical routines that will indicate a best treatment action to apply based on measured conditions and will update the set of predictive models that underlie the decision support tool. USGS is providing scientific leadership to the initiative through the development of models, monitoring design, data systems, and a workflow to process the collected data into management guidance.

Title: Phragmites Adaptive Management Framework.

OMB Control Number: 1028—NEW.

Type of Request: New information collection.

Affected Public: General public, private-sector business entities, NGOs, governmental entities (Federal, State, Local, Tribal, Provincial).

Frequency of Collection: Information is collected twice annually for each enrolled parcel, for as long as participant is enrolled in the program.

Estimated Annual Number of Respondents: 200.

Estimated Total Number of Annual Responses: 400.

Estimated Time per Response: An individual is expected to complete one response in about 4 hours, including review of training materials, traversing the property to observe conditions, and entering information into a web-based form.

Estimated Annual Burden Hours: 1,600.

Respondent's Obligation: Participation is voluntary but is required to obtain treatment guidance.

Estimated Reporting and Recordkeeping “Non-Hour Cost” Burden: None.

An agency may not conduct or sponsor and you are not required to respond to a collection of information unless it displays a currently valid OMB control number.

The authorities for this action are Paperwork Reduction Act of 1995 (44 U.S.C. 3501 et seq.).

Russell Strach,
Center Director, USGS Great Lakes Science Center.

[FR Doc. 2017-25679 Filed 11-27-17; 8:45 am]

BILLING CODE 4338-11-P